ENVIRONMENTAL PROTECTION AGENCY

[FRL-7405-7]

Investigator Initiated Grants, Request for Applications, Ecology and Oceanography of Harmful Algal Blooms Program

AGENCY: Environmental Protection Agency.

ACTION: Notice of financial assistance for project assistance.

SUMMARY: The purpose of this notice is to advise the public that the participating agencies are soliciting individual research proposals of up to 3 years duration, and depending on appropriations, multi-disciplinary regional studies of up to 5 years duration, for the Ecology and Oceanography of Harmful Algal Blooms (ECOHAB) program. This program provides support for research on algal species whose populations may cause or result in deleterious effects on ecosystems and human health. Studies of the causes of such blooms, their detection, effects, mitigation, and control in U.S. coastal waters (including estuaries and Great Lakes) are solicited. This document details the requirements for applications for research support that will be considered by the Federal research partnership.

DATES: The deadline for applications is January 28, 2003 by 4:00 EST.

ADDRESSES: Submit the original and eighteen copies of your proposal to Coastal Ocean Program Office, N/SCI2, SSMC#4, 8th Floor, Room 8243, 1305 East-West Highway, Silver Spring, MD 20910. The required forms for applications with instructions are accessible on the Internet at http://es.epa.gov/ncer/rfa/forms/index.html. Forms may be printed from this site.

The complete program announcement can be accessed on the Internet at http://es.epa.gov/ncer/rfa/ under “Science To Achieve Results (STAR) Research Grants”.

Awards: Final selection of awardees by the participating agencies will be determined on the basis of peer and panel recommendations, applicability of the proposed effort to the interests and objectives of an agency, and the availability of funds. It is anticipated that each award will be made and be administered by a single agency; however, several agencies may participate in providing assistance to individual components of multi-institutional projects. Applicants recommended for funding will be requested to resubmit their applications and may be asked to modify their budgets and/or work plans to comply with special requirements of the particular agency supporting their awards. Awards will be subject to the terms and conditions of the sponsoring agency.

FOR FURTHER INFORMATION CONTACT: Technical Information: Susan Banahan, ECOHAB Coordinator, CSCOR/COP Office, (301) 713-3338/ext 148, E-mail: susan.banahan@noaa.gov. Administrative Information: Gina Perovich, EPA/NCER, (202) 564-2248, E-mail: perovich.gina@epa.gov.

SUPPLEMENTARY INFORMATION:

Program Goals and Topic Areas

The National Center for Environmental Research/Environmental Protection Agency (EPA); the Coastal Ocean Program and the Office of Protected Resources/National Oceanic and Atmospheric Administration (NOAA)/Department of Commerce; the Directorate for Geosciences, Division of Ocean Sciences/National Science Foundation (NSF); the Office of Naval Research (ONR)/Department of Defense; and the Office of Earth Science/National Aeronautics Space Administration (NASA) are cooperating in an opportunity for investigators to propose activities to address fundamental ecological and oceanographic questions related to the national harmful algal bloom (HAB) problem.

Proposals are encouraged in the following areas: (1) The prevention, control, and mitigation of HABs and their impacts; (2) the transition of current biophysical models for HABs in specific regions into operational HAB forecasts; (3) biological and physical oceanographic regional studies that include the development of linked biophysical models of bloom development and transport; and (4) studies addressing gaps in general knowledge of HAB phenomena. These special emphasis areas are described in greater detail in the complete program announcement (see ADDRESSES in this announcement).

ECOHAB will support projects ranging from laboratory studies by individual investigators or small teams, up to larger teams of investigators conducting coordinated, well-integrated, multi-disciplinary regional field programs. For individuals and small teams, support may be requested for 1-3 years duration. Projects focused on multi-disciplinary regional studies may request support for up to 5 years duration. However, the size and duration of the latter studies are dependent on appropriations, and potential applicants are encouraged to correspond with the ECOHAB Coordinator (see CONTACTS in this announcement) prior to preparation of proposals.

Eligibility: Institutions of higher education and not-for-profit institutions located in the U.S., and state or local governments, are eligible under all existing authorizations. Some participating agencies are authorized to make awards to international institutions, and commercial organizations located in the U.S. Federal agencies and laboratories may be eligible, but will be required to submit certifications or documentation which clearly show that they have specific legal authority to receive funds from another Federal agency in excess of their appropriations. Funding for salaries of full time Federal employees will be in accord with individual agency policies. Applications from non-Federal and Federal applicants will evaluated under the same review/selection process. Proposals from non-Federal applicants that are selected for funding will be funded through a project grant or cooperative agreement under the terms of this announcement. Proposals from Federal agencies or laboratories deemed acceptable and selected for funding will be funded through a medium other than a grant or cooperative agreement, such as inter- or intra-agency transfers, where legal authority exists for such funding. Note that this announcement is not proposing to procure goods and services from Federal applicants; therefore the Economy Act (31 U.S.C. 1535) is not an appropriate legal basis.

How to Apply: The original and eighteen (18) copies of the fully developed application (19 in all) and one (1) additional copy of the abstract, prepared in accordance with the full announcement, must be received by NOAA no later than 4:00 P.M. Eastern Time on the closing date, January 28, 2003.

Program Authorities: For COP: 33 U.S.C. 883d and Pub. L. 105-383; for Office of Protected Resources/NOAA: 16 U.S.C. 1382 and 16 U.S.C. 1421a; EPA: 33 U.S.C 1251 et seq. and 40 CFR parts 30 and 40; for NSF: 42 U.S.C. 1861 et seq.; for ONR: 10 U.S.C 2358 as amended and 31 U.S.C 6304; and for NASA: 14 CFR part 1260.

Dated: October 29, 2002.
Catalog of Federal Domestic Assistance (CFDA) Numbers. 11.478 for the Coastal Ocean Program; 11.472 for NOAA/Office of Protected Resources; 66.500 for the Environmental Protection Agency; 47.050 for the National Science Foundation, and 12.300 for the Office of Naval Research.
John C. Puzak,
Acting Director, National Center for Environmental Research.

[FR Doc. 02-28921 Filed 11-13-02; 8:45 am]

BILLING CODE 6560-50-P